DEPARTMENT OF STATE

[Public Notice No. 3569]

Office of Mexican Affairs; Notice of Receipt of Application for a Presidential Permit for a Conveyor Belt To Be Constructed and Maintained on the Borders of the United States

AGENCY: Department of State.

Notice is hereby given that the Department of State has received an application from Austin Industries L.L.C. of San Bernardino, California, for a Presidential Permit, pursuant to Executive Order 11423 of August 16, 1968, as amended by Executive Order 12847 of May 17, 1993, seeking authorization to construct a conveyor belt at a site east of the Otay Mesa/Mesa de Otay Port of Entry linking California and Baja California. The proposed conveyor belt would carry sand and gravel for use in construction projects in California. The conveyor belt would be approximately 275 feet long and four feet wide, supported by fixed “I” beams approximately 15 feet apart. When not in use, it would be stowed and locked entirely on the U.S. side of the border.

As required by E.O. 11423, the Department of State is circulating this application to concerned agencies for comment.

Interested parties may submit comments regarding this application in writing by March 22, 2001 to Mr. David E. Randolph, Coordinator, U.S.-Mexico Border Affairs, Office of Mexican Affairs, WHA/MEX Room 4258, Department of State, Washington, DC 20520. The application and related documents made part of the record to be considered by the Department of State in connection with this application are available for inspection in the Office of Mexican Affairs during normal business hours.

FOR FURTHER INFORMATION CONTACT: David E. Randolph, Coordinator, U.S.-Mexico Border Affairs at the above address, by telephone at (202) 647-8529 or by fax at (202) 647-5752.

Dated: February 5, 2001.
David E. Randolph,
Coordinator, U.S.-Mexico Border Affairs, Department of State.

[FR Doc. 01-4144 Filed 2-16-01; 8:45 am]

BILLING CODE 4710-29-U